DEPARTMENT OF THE INTERIOR

National Park Service

[N6828; NPS-WASO-NAGPRA-NPS0041689; PPWOCRADN0-PCU00RP14.R50000]

Notice of Intended Repatriation: U.S. Army Corps of Engineers, San Francisco District, San Francisco, CA

AGENCY: National Park Service, Interior.

ACTION: Notice.

SUMMARY: In accordance with the Native American Graves Protection and Repatriation Act (NAGPRA), the U.S. Army Corps of Engineers, San Francisco District intends to repatriate certain cultural items that meet the definition of unassociated funerary objects, sacred objects, and/or objects of cultural patrimony and that have a cultural affiliation with the Indian Tribes or Native Hawaiian organizations in this notice.

DATES: Repatriation of the cultural items in this notice may occur on or after February 6, 2026.

ADDRESSES: Send additional, written requests for repatriation of the cultural items in this notice to Ruzel Benedicto Ednalino, U.S. Army Corps of Engineers, San Francisco District, 450 Golden Gate Avenue, San Francisco, CA 94102, email ruzel.b.ednalino@usace.army.mil.

SUPPLEMENTARY INFORMATION: This notice is published as part of the National Park Service's administrative responsibilities under NAGPRA. The determinations in this notice are the sole responsibility of the U.S. Army Corps of Engineers, San Francisco District, and additional information on the determinations in this notice, including the results of consultation, can be found in the summary or related records. The National Park Service is not responsible for the determinations in this notice.

Abstract of Information Available

A total of 182 cultural items from site CA-MEN-545 in Mendocino County, CA have been requested for repatriation. The 182 unassociated funerary objects are: one chert biface, one chert blade, one chert chopper, two chert cores, three basalt flakes, 100 chert flakes, 38 lithic flakes, 15 obsidian flakes, three handstones, two chert projectile points, eight obsidian projectile points, one piece of rubber, five chert scrapers, and two stones. These cultural items are currently located at Sonoma State University in Rohnert Park, CA.

A total of 372 cultural items from site CA-MEN-546 in Mendocino County, CA have been requested for repatriation. The 372 unassociated funerary objects are: nine charcoal samples (six have not yet been located), four chert cobbles, two chert cores, two pieces of basalt debitage, 195 pieces of chert debitage, two pieces of obsidian debitage, 56 chert flakes, five obsidian flakes (four have not yet been located), two pieces of glass, nine pieces of groundstone, 62 pieces of basalt groundstone, 17 pieces of sandstone groundstone, four chert projectile points, two chert scrapers, and one tool. These cultural items are currently located at Sonoma State University in Rohnert Park, CA.

A total of 11 cultural items from site CA-MEN-551 in Mendocino County, CA have been requested for repatriation. The 11 unassociated funerary objects are: one charcoal sample, one piece of groundstone, one piece of basalt groundstone, three pieces of leather, three shell fragments, and two pieces of burned wood. These cultural items are currently located at Sonoma State University in Rohnert Park, CA.

A total of 39 cultural items from site CA-MEN-553 in Mendocino County, CA have been requested for repatriation. The 39 unassociated funerary objects are: one obsidian biface, 24 chert flakes, three obsidian flakes, one handstone, two chert projectile points, seven obsidian projectile points, and one chert scraper. These cultural items are currently located at Sonoma State University in Rohnert Park, CA.

A total of 477 cultural items from site CA-MEN-555 in Mendocino County, CA have been requested for repatriation. The 477 sacred objects are: one chert biface, 63 pieces of charcoal, one chert core, 170 pieces of chert debitage (143 have not yet been located), 14 faunal remains (two have not yet been located), 95 chert flakes (41 have not yet been located), one obsidian flake, seven flotation samples, 103 pieces of groundstone (23 have not yet been located), one chert projectile point, one obsidian projectile point, 17 pieces of fire cracked rock (17 have not yet been located), one shell fragment, and two fragments of wood. These cultural items are currently located at Sonoma State University in Rohnert Park, CA.

A total of one cultural item from site CA-MEN-588 or CA-MEN-589 in Mendocino County, CA has been requested for repatriation. The one unassociated funerary object is an obsidian projectile point. This cultural item is currently located at Sonoma State University in Rohnert Park, CA.

A total of 20 cultural items from site CA-MEN-1137 in Mendocino County, CA have been requested for repatriation. The 20 unassociated funerary objects are two abalone shell fragments and 18 faunal remains. The cultural items were likely removed during archaeological survey and excavations in the 1960s. These cultural items are currently located at Sonoma State University in Rohnert Park, CA.

A total of 47 cultural items from unknown sites in Mendocino County, CA that are currently housed at Sonoma State University in Rohnert Park, CA have been requested for repatriation. The unassociated funerary objects are: one chert biface, 15 pieces of charcoal, 11 pieces of chert debitage, 12 faunal remains, one chert flake, five pieces of groundstone (have not yet been located), one stone mortar, and one obsidian projectile point.

A total of seven cultural items from unknown sites in Mendocino County, CA that are currently housed at San Francisco State University in San Francisco, CA have been requested for repatriation. The seven unassociated funerary objects are: one obsidian biface, one obsidian chopper, three obsidian projectile points, and two chert unifaces. These cultural items were likely removed during archaeological survey at the Coyote Valley Dam and Lake Mendocino in the mid-to-late 1950s.

To our knowledge, the cultural items described herein have not been treated with any known hazardous substances.

Determinations

The U.S. Army Corps of Engineers, San Francisco District has determined that:

• The 679 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• The 477 sacred objects described in this notice are specific ceremonial objects needed by a traditional Native American religious leader for present-day adherents to practice traditional Native American religion, according to the Native American traditional knowledge of a lineal descendant, Indian Tribe, or Native Hawaiian organization.

• There is a connection between the cultural items described in this notice and the Coyote Valley Band of Pomo Indians of California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after February 6, 2026. If competing requests for repatriation are received, the U.S. Army Corps of Engineers, San Francisco District must determine the most appropriate requestor prior to repatriation. Requests for joint repatriation of the cultural items are considered a single request and not competing requests. The U.S. Army Corps of Engineers, San Francisco District is responsible for sending a copy of this notice to the Indian Tribes and Native Hawaiian organizations identified in this notice and to any other consulting parties.

Authority: Native American Graves Protection and Repatriation Act, 25 U.S.C. 3004 and the implementing regulations, 43 CFR 10.9.

Dated: December 18, 2025.
Melanie O'Brien,
Manager, National NAGPRA Program.

[FR Doc. 2026-00059 Filed 1-6-26; 8:45 am]

BILLING CODE 4312-52-P